DEPARTMENT OF THE INTERIOR

Bureau of Land Management

(CA-360-1430-ET; CACA 41014)

Notice of Proposed Withdrawal and Opportunity for Public Meeting; California

AGENCY: Bureau of Land Management, Interior.

ACTION: Notice.

SUMMARY: The Bureau of Land Management proposes to withdraw 4,362.88 acres of public lands in Siskiyou County to assure long term protection and preservation of ecological, historical, and biological resource values. The public lands are located in the Horseshoe Ranch Wildlife Area (containing 3,842.88 acres) and Jenny Creek Area of Critical Environmental Concern (containing 520 acres). This notice closes the lands for up to 2 years from mining. The lands located at the Horseshoe Ranch Wildlife Area are withdrawn from mineral leasing by the Record of Decision, Resources Management Plan for Redding Resource Area, which approved by the California State Director, Bureau of Land Management, on July 27,1993. The lands located at Jenny Creek Area of Critical Environmental Concern will remain open to mineral leasing. All of the lands proposed for withdrawal will remain open to the Materials Act of 1947.

DATES: Comments and requests for a public meeting must be received by April 23, 2001.

ADDRESSES: Comments and meeting requests should be sent to the Field Manager, BLM Redding Field Office (CA-360), 355 Hemsted Drive, Redding, California 96002.

FOR FURTHER INFORMATION CONTACT: Duane Marti, BLM California State Office, 916-978-4675.

SUPPLEMENTARY INFORMATION: The purpose of the proposed withdrawal is to assure long term protection and preservation of ecological, historical, and biological resource values. Currently, the Bureau of Land Management is studying a proposal to amend the existing boundary of the Horseshoe Ranch WA. This proposed action will be processed in conjunction with that study. A petition was approved allowing the Bureau of Land Management to file an application to withdraw the following described public lands from location and entry under the United States mining laws, subject to valid existing rights:

Mount Diablo Meridian, California

T. 48 N., R. 5 W.,

Sec. 18, lots 1 to 4, inclusive;

Sec. 20, W½;

Sec. 24, NE¼NE¼, W½E½, and W½;

Sec. 28, NW¼SW¼;

Sec. 30, lots 1 to 4, inclusive, W½E½, and E½W½.

T. 48 N., R. 6 W.,

Sec. 14, lots 1 to 4, inclusive, and S½S½;

Sec. 21, E½;

Sec. 22, all;

Sec. 24, all;

Sec. 26, all;

Sec. 34, NE¼NE¼, N½NW¼, SW¼NW¼, and S½.

The areas described aggregate 4,362.88 acres, more or less, in Siskiyou County.

The purpose of the proposed withdrawal is to assure long term protection and preservation of ecological, historical, and biological resource values.

Until April 23, 2001, all persons who wish to submit comments, suggestions, or objections in connection with the proposed withdrawal may present their views in writing to the Field Manager, Redding Field Office of the Bureau of Land Management.

Notice is hereby given that an opportunity for a public meeting is afforded in connection with the proposed withdrawal. All interested persons who desire a public meeting for the purpose of being heard on the proposed withdrawal must submit a written request to the Field Manager, Redding Field Office by April 23, 2001. Upon determination by the authorized officer that a public meeting will be held, a notice of the time and place will be published in the Federal Register at least 30 days before the scheduled date of the meeting.

The application will be processed in accordance with the regulations set forth in 43 CFR part 2300.

For a period of 2 years from the date of publication of this notice in the Federal Register, the lands will be segregated as specified above unless the application is denied or canceled or the withdrawal is approved prior to that date. The temporary uses which may be permitted during this segregative period are those which are compatible with the use of the lands, as determined by BLM.

Dated: January 17, 2001.
Duane Marti,
Acting Chief, Branch of Lands.

[FR Doc. 01-1997 Filed 1-22-01; 8:45 am]

BILLING CODE 4310-40-P